DEPARTMENT OF COMMERCE

International Trade Administration

[A-570-044]

1,1,1,2 Tetrafluoroethane (R-134a) from the People's Republic of China: Antidumping Duty Order

AGENCY: Enforcement and Compliance, International Trade Administration, Department of Commerce.

SUMMARY: Based on an affirmative final determination by the Department of Commerce (“Department”) and the International Trade Commission (“ITC”), the Department is issuing the antidumping duty order on 1,1,1,2 Tetrafluoroethane (R-134a) (“R134a”) from the People's Republic of China (“PRC”).

DATES: Effective April 19, 2017.

FOR FURTHER INFORMATION CONTACT: Keith Haynes or Paul Stolz, AD/CVD Operations, Office III, Enforcement and Compliance, International Trade Administration, U.S. Department of Commerce, 1401 Constitution Avenue NW., Washington, DC 20230; telephone: (202) 482-5139 or (202) 482-4474, respectively.

SUPPLEMENTARY INFORMATION: In accordance with section 735(d) and 777(i)(1) of the Tariff Act of 1930, as amended (the “Act”), and 19 CFR 351.210(c), on March 1, 2017, the Department published its affirmative final determination in the less than fair value (“LTFV”) investigation of R134a from the PRC.¹ On April 5, 2017, the ITC notified the Department of its final determination pursuant to section 735(d) of the Act, that an industry in the United States is materially injured within the meaning of section 735(b)(1)(A)(i) of the Act by reason of imports of R134a from the PRC.² In addition, in its final determination, the ITC did not make an affirmative critical circumstances finding with respect to imports of subject merchandise from the PRC that are subject to the Department's final affirmative critical circumstances finding.

¹ See 1,1,1,2 Tetrafluoroethane (R-134a) from the People's Republic of China: Final Determination of Sales at Less Than Fair Value and Affirmative Determination of Critical Circumstances, in Part, 82 FR 12192 (March 1, 2017) (“Final Determination”).

² See Letter to Ronald Lorentzen, Acting Assistant Secretary of Commerce for Enforcement and Compliance, from Rhonda K Schmidtlein, Chairman of the U.S. International Trade Commission, regarding R134a from China (April 5, 2017) (ITC Letter).

Scope of the Order

The product covered by the scope is 1,1,1,2-Tetrafluoroethane, R-134a, or its chemical equivalent, regardless of form, type, or purity level. The chemical formula for 1,1,1,2-Tetrafluoroethane is CF3-CH2F, and the Chemical Abstracts Service registry number is CAS 811-97-2.³

³ 1,1,1,2-Tetrafluoroethane is sold under a number of trade names including Klea 134a and Zephex 134a (Mexichem Fluor); Genetron 134a (Honeywell); Freon™ 134a, Suva 134a, Dymel 134a, and Dymel P134a (Chemours); Solkane 134a (Solvay); and Forane 134a (Arkema). Generically, 1,1,1,2-Tetrafluoroethane has been sold as Fluorocarbon 134a, R-134a, HFC-134a, HF A-134a, Refrigerant 134a, and UN3159.

Merchandise subject to the scope is currently classified in the Harmonized Tariff Schedule of the United States (“HTSUS”) at subheading 2903.39.2020. Although the HTSUS subheading and CAS registry number are provided for convenience and customs purposes, the written description of the scope is dispositive.

Antidumping Duty Order

On April 5, 2017, in accordance with sections 735(d) of the Act, the ITC notified the Department of its final determination in this investigation, in which it found that imports of R134a from the PRC are materially injuring a U.S. industry.⁴ Therefore, in accordance with section 735(c)(2) of the Act, we are publishing this antidumping duty order.

⁴ See ITC Letter.

Because the ITC determined that imports of R134a from the PRC are materially injuring a U.S. industry, unliquidated entries of such merchandise from the PRC, entered or withdrawn for consumption, are subject to the assessment of antidumping duties.

Therefore, in accordance with section 736(a)(1) of the Act, the Department will direct U.S. Customs and Border Protection (“CBP”) to assess, upon further instruction by the Department, antidumping duties equal to the amount by which the normal value of the merchandise exceeds the export price (or constructed export price) of the merchandise, for all relevant entries of R134a from the PRC. Antidumping duties will be assessed on unliquidated entries of R134a entered, or withdrawn from warehouse, for consumption on or after October 7, 2016, the date on which the Department published the Preliminary Determination,⁵ but will not include entries occurring after the expiration of the provisional measures period and before publication of the ITC's final injury determination, as further described below.

⁵ See 1,1,1,2-Tetrafluoroethane (R-134a) from the People's Republic of China: Preliminary Determination of Sales at Less-Than-Fair Value and Affirmative Determination of Critical Circumstances, in Part, and Postponement of Final Determination, 81 FR 69786 (October 7, 2016) (“Preliminary Determination”).

Continuation of Suspension of Liquidation

In accordance with section 735(c)(1)(B) of the Act, we will instruct CBP to continue to suspend liquidation on entries of subject merchandise from the PRC. These instructions suspending liquidation will remain in effect until further notice.

We will also instruct CBP to require cash deposits at rates equal to the estimated weighted-average dumping margins indicated in the chart below.⁶ Accordingly, effective on the date of publication of the ITC's final affirmative injury determination, CBP will require, at the same time as importers would normally deposit estimated duties on this subject merchandise, a cash deposit at the rates listed below.⁷ The rate for the PRC-wide entity applies to all exporters not specifically listed.

⁶ See section 736(a)(3) of the Act.

⁷ See sections 736(a)(3), 772(c)(1)(C) and 777A(f) of the Act.

Provisional Measures

Section 733(d) of the Act states that instructions issued pursuant to an affirmative preliminary determination may not remain in effect for more than four months except where exporters representing a significant proportion of exports of the subject merchandise request the Department to extend that four-month period to no more than six months. At the request of Zhejiang Sanmei Chemical Industry Co., Ltd., a mandatory respondent in this investigation, the Department extended the four-month period to six months.⁸ In the underlying investigation, the Department published the Preliminary Determination on October 7, 2017.⁹ Therefore, the six-month period beginning on the date of the publication of the Preliminary Determination ended on April 4, 2017. Furthermore, section 737(b) of the Act states that definitive duties are to begin on the date of publication of the ITC's final injury determination.

⁸ See the Preliminary Determination, 81 FR at 69788.

⁹ Id.

Therefore, in accordance with section 733(d) of the Act and our practice, we will instruct CBP to terminate the suspension of liquidation and to liquidate, without regard to antidumping duties, unliquidated entries of R134a from the PRC entered, or withdrawn from warehouse, for consumption after April 4, 2017 the date the provisional measures expired, and through the day preceding the date of publication of the ITC's final injury determination in the Federal Register.¹⁰

¹⁰ See 1,1,1,2-Tetrafluoroethane (R-134a) from China, 82 FR 17280 (April 10, 2017).

Estimated Weighted-Average Dumping Margins

The Department determines that the estimated final weighted-average dumping margins are as follow:

Exporter | Producer | Weighted- average margin (percent)
Zhejiang Sanmei Chemical Industry Co., Ltd | Zhejiang Sanmei Chemical Industry Co., Ltd and Jiangsu Sanmei Chemicals Co., Ltd | 148.79
Jiangsu Bluestar Green Technology Co., Ltd | Jiangsu Bluestar Green Technology Co., Ltd | 148.79
T.T. International Co., Ltd | Electrochemical Factory of Zhejiang Juhua Co., Ltd | 148.79
T.T. International Co., Ltd | Sinochem Environmental Protection Chemicals (Taicang) Co., Ltd | 148.79
T.T. International Co., Ltd | Zhejiang Quzhou Lianzhou Refrigerants Co., Ltd | 148.79
T.T. International Co., Ltd | Zhejiang Sanmei Chemical Ind. Co., Ltd | 148.79
T.T. International Co., Ltd | Zhejiang Zhonglan Refrigeration Technology Co., Ltd | 148.79
Weitron International Refrigeration Equipment (Kunshan) Co., Ltd.¹¹ | Sinochem Environmental Protection Chemicals (Taicang) Co., Ltd | 148.79
Weitron International Refrigeration Equipment (Kunshan) Co., Ltd | Weitron International Refrigeration Equipment (Kunshan) Co., Ltd | 148.79
Weitron International Refrigeration Equipment (Kunshan) Co., Ltd | Zhejiang Organic Fluor-Chemistry Plant, Zhejiang Juhua Co., Ltd | 148.79
Weitron International Refrigeration Equipment (Kunshan) Co., Ltd | Zhejiang Quhua Fluor-Chemistry Co., Ltd | 148.79
Weitron International Refrigeration Equipment (Kunshan) Co., Ltd | Zhejiang Quhua Juxin Fluorochemical Industry Co., Ltd | 148.79
Weitron International Refrigeration Equipment (Kunshan) Co., Ltd | Zhejiang Sanmei Chemical Industry Co., Ltd | 148.79
PRC-Wide Entity ¹² |  | 167.02
¹¹ Though the Final Determination refers to Weitron International Refrigeration Equipment Co., Ltd., the correct name of the company is Weitron International Refrigeration Equipment (Kunshan) Co., Ltd.
¹² The PRC-Wide Entity includes Zhejiang Quzhou Lianzhou Refrigerants Co., Ltd., a mandatory respondent, as well as separate rate applicants Zhejiang Quhua Fluor-Chemistry Co., Ltd., and Sinochem Environmental Protection Chemicals (Taicang) Co. Ltd.

Critical Circumstances

In its final determination, the ITC did not make an affirmative critical circumstances finding with respect to imports of subject merchandise from the PRC that were subject to the Department's final affirmative critical circumstances determination. Accordingly, the Department will instruct CBP to lift suspension and to refund any cash deposits made to secure the payment of estimated antidumping duties with respect to entries of the merchandise entered, or withdrawn from warehouse, for consumption on or after July 9, 2016 (i.e., 90 days prior to the date of publication of the preliminary determination), but before October 7, 2016, the publication date of the Preliminary Determination.

Notification to Interested Parties

This notice constitutes the antidumping duty order with respect to R134a from the PRC, pursuant to section 736(a) of the Act. Interested parties can find a list of antidumping duty orders currently in effect at http://www.trade.gov/enforcement/.

This order is issued and published in accordance with sections 736(a) of the Act and 19 CFR 351.211(b).

Dated: April 13, 2017.
Ronald K. Lorentzen,
Acting Assistant Secretary for Enforcement and Compliance.

[FR Doc. 2017-07913 Filed 4-18-17; 8:45 am]

BILLING CODE 3510-DS-P